DEPARTMENT OF ENERGY

Federal Energy Regulatory Commission

[Docket No. IC14-8-000]

Commission Information Collection Activities (Ferc-521); Comment Request

AGENCY: Federal Energy Regulatory Commission, Department of Energy (DOE).

ACTION: Comment request.

SUMMARY: In compliance with the requirements of the Paperwork Reduction Act of 1995, 44 U.S.C. 3507(a)(1)(D), the Federal Energy Regulatory Commission (Commission or FERC) is submitting the information collection FERC-521 (Payments for Benefits from Headwater Benefits) to the Office of Management and Budget (OMB) for review of the information collection requirements. Any interested person may file comments directly with OMB and should address a copy of those comments to the Commission as explained below. The Commission issued a Notice in the Federal Register (79 FR 8949, 2/14/2014) requesting public comments. FERC received no comments on the FERC-521 and is making this notation in its submittal to OMB.

DATES: Comments on the collection of information are due by May 29, 2014.

ADDRESSES: Comments filed with OMB, identified by the OMB Control No. 1902-0087, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC14-8-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: Payments for Benefits from Headwater Benefits.

OMB Control No.: 1902-0087.

Type of Request: Three-year extension of the FERC-521 information collection requirements with no changes to the reporting requirements.

Abstract: The information collected under the requirements of FERC-521 is used by the Commission to implement the statutory provisions of Section 10(f) of the Federal Power Act (FPA).¹ The FPA authorizes the Commission to determine headwater benefits received by downstream hydropower project owners. Headwater benefits are the additional energy production possible at a downstream hydropower project resulting from the regulation of river flows by an upstream storage reservoir.

¹ 16 U.S.C. 803.

When the Commission completes a study of a river basin, it determines headwater benefits charges that will be apportioned among the various downstream beneficiaries. A headwater benefits charge and the cost incurred by the Commission to complete an evaluation are paid by downstream hydropower project owners. In essence, the owners of non-federal hydropower projects that directly benefit from a headwater improvement must pay an equitable portion of the annual charges for interest, maintenance, and depreciation of the headwater project to the U.S. Treasury. The regulations provide for apportionment of these costs between the headwater project and downstream projects based on downstream energy gains and propose equitable apportionment methodology that can be applied to all rivers basins in which headwater improvements are built. The Commission requires owners of non-federal hydropower projects to file data for determining annual charges as outlined in 18 Code of Federal Regulations (CFR) part 11.

Type of Respondents: There are two types of entities that respond, Federal and Non-Federal hydropower project owners. The Federal entities that typically respond are the US Army Corps of Engineers and the US Department of Interior Bureau of Reclamation. The Non-Federal entities may consist of any Municipal or Non-Municipal hydropower project owner.

Estimate of Annual Burden: ² The Commission estimates the annual public reporting burden for the information collection as:

² The Commission defines burden as the total time, effort, or financial resources expended by persons to generate, maintain, retain, or disclose or provide information to or for a Federal agency. For further explanation of what is included in the information collection burden, reference 5 Code of Federal Regulations 1320.3.

FERC-521—Payments for Benefits From Headwater Benefits
Number of respondents | Number of responses per respondent | Total number of responses | Average burden hours per response | Estimated total annual burden
(A) | (B) | (A) × (B) = (C) | (D) | (C) × (D)
3 | 1 | 3 | 40 | 120

The total estimated annual cost burden to respondents is $8,460 [120 hours * $70.50/hour ³ = $8,460]

³ $70.50/hour is the average FERC employee salary plus benefits. We assume (based upon consultation of subject matter experts for this industry) that respondents to this collection are similarly compensated in terms of salary and benefits.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 22, 2014.
Kimberly D. Bose,
Secretary.

[FR Doc. 2014-09665 Filed 4-28-14; 8:45 am]

BILLING CODE 6717-01-P